FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than February 17, 2000.

A. Federal Reserve Bank of Richmond (A. Linwood Gill, III, Assistant Vice President), 701 Easy Byrd Street, Richmond, Virginia 23261-4528:

1. FNB Corp., Asheboro, North Carolina; to acquire 100 percent of the voting shares of Carolina Fincorp, Inc., Rockingham, North Carolina, and thereby indirectly acquire Richmond Savings Bank, Inc., SSB, Rockingham, North Carolina.

B. Federal Reserve Bank of Atlanta (Lois Berthaume, Vice President), 104 Marietta Street, N.W., Atlanta, Georgia 30303-2713:

1. Vision Bancshares, Inc., Gulf Shores, Alabama; to become a bank holding company by acquiring 100 percent of the voting shares of Vision Bank (in organization), Gulf Shores, Alabama.

C. Federal Reserve Bank of St. Louis (Randall C. Sumner, Vice President), 411 Locust Street, St. Louis, Missouri 63102-2034:

1. National Commerce Bancorporation, Memphis, Tennessee; to acquire 100 percent of the voting shares of Piedmont Bancorp, Inc., Hillsborough, North Carolina, and thereby indirectly acquire Hillsborough Savings Bank, Inc., SSB, Hillsborough, North Carolina.

D. Federal Reserve Bank of Dallas (W. Arthur Tribble, Vice President), 2200 North Pearl Street, Dallas, Texas 75201-2272:

1. Mesquite Financial Services, Inc., Alice, Texas; to acquire 100 percent of the voting shares of Falfurrias State Bank, Falfurrias, Texas. Comments on this application must be received by February 15, 2000.

E. Federal Reserve Bank of San Francisco (Maria Villanueva, Consumer Regulation Group), 101 Market Street, San Francisco, California 94105-1579:

1. Eggemeyer Advisory Corp.; WJR Corp.; Castle Creek Capital LLC; Castle Creek Capital Partners Fund I, LP; Castle Creek Capital Partners Fund IIa, LP; Castle Creek Capital Partners Fund IIb, LP, all of Rancho Santa Fe, California; to acquire up to 35 percent of the voting shares of First Community Bancorp, Rancho Santa Fe, California, and thereby indirectly acquire Rancho Santa Fe National Bank, Rancho Santa Fe, California, and First Community Bank of the Desert, Indian Wells, California.

2. First Community Bancorp, Rancho Santa Fe, California; to become a bank holding company by acquiring 100 percent of the voting shares of Rancho Santa Fe National Bank, Rancho Santa Fe, California, and First Community Bank of the Desert, Indian Wells, California.

Board of Governors of the Federal Reserve System, January 18, 2000.
Robert deV. Frierson,
Associate Secretary of the Board.

[FR Doc. 00-1576 Filed 1-21-00; 8:45 am]

BILLING CODE 6210-01-P